DEPARTMENT OF HOUSING AND URBAN DEVELOPMENT

[Docket No. FR-5608-N-05]

Notice of Proposed Information Collection: Survey and Collection of Information From HUD Healthy Housing Demonstration Grantees

AGENCY: Office of Healthy Homes and Lead Hazard Control (OHHLHC), HUD.

ACTION: Notice.

SUMMARY: The proposed information collection requirement concerning a survey of selected Healthy Homes Demonstration grantees funded by HUD will be submitted to the Office of Management and Budget (OMB) for review, as required by the Paperwork Reduction Act. The Department is soliciting public comments on the subject proposal.

DATES: Comments due date: February 19, 2013.

ADDRESSES: Interested persons are invited to submit comments regarding this proposal. Comments should refer to the proposal by name and/or OMB Control Number and should be sent to: Ashley L. Mack, Reports Liaison Officer, Office of Healthy Homes and Lead Hazard Control, Department of Housing and Urban Development, 451 7th Street SW., Room 8236, Washington, DC 20410.

FOR FURTHER INFORMATION CONTACT: Peter J. Ashley, Department of Housing and Urban Development, 451 7th Street SW., Room 8236, Washington, DC 20410, telephone number (202) 402-7595 (this is not a toll-free number) for copies of the proposed survey and other available documents. Hearing- or speech-challenged individuals may access this number through TTY by calling the toll-free Federal Relay Service at 800-877-8339.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses. This Notice also lists the following information:

Title of Proposal: Evaluating Outcomes of HUD's Healthy Homes Demonstration Grants.

OMB Control Number: To be assigned.

Need for the Information and Proposed Use: The mission of HUD's Healthy Homes Program is “To reduce health and safety hazards in housing in a comprehensive and cost effective manner, with a particular focus on protecting the health of children and other sensitive populations in low income households.” (Leading Our Nation to Healthier Homes: The Healthy Homes Strategic Plan, U.S. Department of Housing and Urban Development Office of Healthy Homes and Lead Hazard Control, 2010, p. 7.) An evaluation and summarization of grants awarded under the program was last completed in 2005 (“An Evaluation of HUD's Healthy Homes Initiative: Current Findings and Outcomes,” Healthy Housing Solutions, March 5, 2007).

The objectives of the Healthy Homes Demonstration (HHD) grants that will be evaluated through the effort described in this notice include:

• Carrying out direct remediation where housing-related hazards may contribute to injury or illness, with a focus on children's health;

• Delivering education and outreach activities to protect children from housing-related hazards; and

• Building capacity to increase the probability that aspects of grant-supported Healthy Homes programs are sustained.

OHHLHC intends to administer an online questionnaire for up to 30 HHD grantees. This questionnaire will capture key project information to supplement information already available in reports and manuscripts from the approximately 54 HHD grants that were awarded from fiscal years 2005 to 2009, including any 2004 grant not included in the earlier evaluation, and any more recent grantee whose grant ends this fiscal year. OHHLHC is especially interested in determining whether any of the grantee's data sets (i.e., resulting from project evaluation) would be of value to OHHLHC for additional analyses. After a review of available reports and manuscripts, OHHLHC anticipates roughly half of these grantees (up to 30) will be asked to complete the online questionnaire. OHHLHC will target those grantees that have carried out the greatest number of interventions, collected the most detailed evaluation data on cost, health and housing impacts and outcomes, and can demonstrate significant capacity-building and sustainable approaches to guide policy development and guidance for future healthy homes efforts.

A questionnaire was developed for the 2005 evaluation that captured key information about recruitment/enrollment, assessment, interventions, skills training, and community education/outreach in HHI grantee projects. This questionnaire will be modified for this new data collection effort. The online questionnaire will be administered through a secure Web site.

Agency Form Numbers: None.

Members of Affected Public: HUD Office of Healthy Homes Demonstration grantees (i.e., not-for profit and for-profit firms located in the United States, state and local governments, federally recognized Indian Tribes, and colleges and universities). Participation is voluntary. The only cost to respondents is their time.

Total Burden Estimate
Requirement | Number of respondents | Hours per respondent | Total hours | Cost per hour | Labor cost | Startup cost | O&M cost | Total cost
Complete questionnaire | 30 | 16 | 480 | $32.75 | $15,720 | $0 | $0 | $15,720
Total | 30 | 16 | 480 |  | 15,720 | 0 | 0 | 15,720

Status of the Proposed Information Collection: New request. OMB approval is requested for up to two years, with data collection beginning approximately July 2013.

Authority: The Paperwork Reduction Act of 1995, 44 U.S.C. Chapter 35, as amended.

Dated: December 12, 2012.
Jon L. Gant,
Director, HUD Office of Healthy Homes and Lead Hazard Control.

[FR Doc. 2012-30600 Filed 12-18-12; 8:45 am]

BILLING CODE 4210-67-P